POSTAL SERVICE

Sunshine Act Meeting: Board of Governors Board Votes To Close April 24, 2013, Meeting

By telephone vote on April 24, 2013, members of the Board of Governors of the United States Postal Service met and voted unanimously to close to public observation its meeting held in Washington, DC, via teleconference. The Board determined that no earlier public notice was possible.

Matters Considered

1. Strategic Issues.

2. Legislative Issues.

General Counsel Certification

The General Counsel of the United States Postal Service has certified that the meeting was properly closed under the Government in the Sunshine Act.

Contact Person for More Information

Requests for information about the meeting should be addressed to the Secretary of the Board, Julie S. Moore, at (202) 268-4800.

Julie S. Moore,
Secretary.

[FR Doc. 2013-11216 Filed 5-8-13; 11:15 am]

BILLING CODE 7710-12-P